DEPARTMENT OF TRANSPORTATION

Federal Aviation Administration

Government/Industry Aeronautical Charting Forum Meeting

AGENCY: Federal Aviation Administration (FAA), DOT.

ACTION: Notice of public meeting.

SUMMARY: This notice announces the bi-annual meeting of the Federal Aviation Administration (FAA) Aeronautical Charting Forum (ACF) to discuss informational content and design of aeronautical charts and related products, as well as instrument flight procedures development policy and design criteria.

DATES: The ACF is separated into two distinct groups. The Instrument Procedures Group (IPG) will meet April 24, 2012 from 8:30 a.m. to 5 p.m. The Charting Group will meet April 25 and 26, 2012 from 8:30 a.m. to 5 p.m.

ADDRESSES: The meeting will be hosted by Innovative Solutions International, a Pragmatics, Inc. Company at 1761 Business Center Drive, Reston, VA 20190.

FOR FURTHER INFORMATION CONTACT: For information relating to the Instrument Procedures Group, contact Thomas E. Schneider, FAA, Flight Procedures Standards Branch, AFS-420, 6500 South MacArthur Blvd., P.O. Box 25082, Oklahoma City, OK 73125; telephone (405) 954-5852; fax: (405) 954-2528.

For information relating to the Charting Group, contact Valerie S. Watson, FAA, National Aeronautical Navigation Products (AeroNav Products), Quality Assurance & Regulatory Support, AJV-3B, 1305 East-West Highway, SSMC4, Station 4640, Silver Spring, MD 20910; telephone: (301) 427-5155, fax: (301) 427-5412.

The public must make arrangements by April 6, 2012, to present oral statements at the meeting. The public may present written statements and/or new agenda items to the committee by providing a copy to the person listed in the FOR FURTHER INFORMATION CONTACT section not later than April 6, 2012, Public statements will only be considered if time permits.

Issued in Washington, DC, on February 28, 2012.
Valerie S. Watson,
Co-Chair, Aeronautical Charting Forum.

[FR Doc. 2012-5293 Filed 3-6-12; 8:45 am]

BILLING CODE M